DEPARTMENT OF THE TREASURY

United States Mint

Pricing for the 2019 American Legion 100th Anniversary Commemorative Coins and The American Legion Centennial Emblem Print

AGENCY: United States Mint, Department of the Treasury.

ACTION: Notice.

SUPPLEMENTARY INFORMATION: The United States Mint is announcing pricing for the 2019 American Legion 100th Anniversary Commemorative Coins and The American Legion Centennial Emblem Prints as follows:

Coin | Regular price
Proof Gold Coin w/Print | 2019 Grid + $8.95.
Proof Silver Dollar w/Print | $68.90.
Proof Clad Half Dollar w/Print | $41.90.

Products containing gold coins will be priced according to the Pricing of Numismatic and Commemorative Gold and Platinum Products Grid posted at www.usmint.gov.

FOR FURTHER INFORMATION CONTACT: Rosa Matos, Program Manager for Numismatic and Bullion; United States Mint; 801 9th Street NW, Washington, DC 20220; or call 202-354-7500.

Authority: Public Law 115-65.

Dated: August 16, 2019.
Patrick Hernandez,
Acting Deputy Director, United States Mint.

[FR Doc. 2019-18043 Filed 8-20-19; 8:45 am]

BILLING CODE P